DEPARTMENT OF COMMERCE

Foreign-Trade Zones Board

[B-08-2019]

Foreign-Trade Zone (FTZ) 12—McAllen, Texas; Authorization of Production Activity; Universal Metal Products, Inc. (Formed and Converted Metal for Commercial and Industrial Use); Pharr, Texas

On February 19, 2019, Universal Metal Products, Inc. submitted a notification of proposed production activity to the FTZ Board for its facility within FTZ 12, in Pharr, Texas.

The notification was processed in accordance with the regulations of the FTZ Board (15 CFR part 400), including notice in the Federal Register inviting public comment (84 FR 9484, March 15, 2019). On June 19, 2019, the applicant was notified of the FTZ Board's decision that no further review of the activity is warranted at this time. The production activity described in the notification was authorized, subject to the FTZ Act and the FTZ Board's regulations, including Section 400.14.

Dated: June 19, 2019.
Andrew McGilvray,
Executive Secretary.

[FR Doc. 2019-13612 Filed 6-25-19; 8:45 am]

BILLING CODE 3510-DS-P